DEPARTMENT OF TRANSPORTATION

Federal Aviation Administration

Notice of Intent To Rule on Request To Release Airport Property at the Piedmont Triad International Airport, Greensboro, NC

AGENCY: Federal Aviation Administration (FAA), DOT.

ACTION: Request for Public Comment

SUMMARY: The Federal Aviation Administration is requesting public comment on the release of land at the Piedmont Triad International Airport, Greensboro, North Carolina. This property, approximately 16.93 acres of fee simple release, will change to a non-aeronautical use. This action is taken under the provisions of Section 125 of the Wendell H. Ford Aviation Investment Reform Act for the 21st Century (AIR 21).

DATES: Comments must be received on or June 2, 2014.

ADDRESSES: Documents are available for review at the Piedmont Triad International Airport, 1000-A Ted Johnson Parkway, Greensboro, NC 27409 and the FAA Memphis Airports District Office, 2600 Thousand Oaks Boulevard, Suite 2250, Memphis, TN 38118. Written comments on the Sponsor's request must be delivered or mailed to: Mr. Phillip J. Braden, Manager, FAA Memphis Airports District Office, 2600 Thousand Oaks Boulevard, Suite 2250, Memphis, TN 38118.

In addition, a copy of any comments submitted to the FAA must be mailed or delivered to Mr. Kevin J. Baker, Executive Director, Piedmont Triad Airport Authority, 1000-A Ted Johnson Parkway, Greensboro, NC 27409.

FOR FURTHER INFORMATION CONTACT: Mr. Tommy L. Dupree, Team Lead/Civil Engineer, FAA Memphis Airports District Office, 2600 Thousand Oaks Boulevard, Suite 2250, Memphis, TN 38118. The application may be reviewed in person at this same location, by appointment.

SUPPLEMENTARY INFORMATION: The FAA proposes to rule and invites public comment on the request to release property at the Piedmont Triad International Airport, Greensboro, North Carolina. Under the provisions of AIR 21 (49 U.S.C. 47107(h)(2)).

On April 8, 2014, the FAA determined that the request to release property at Piedmont Triad International Airport, meets the procedural requirements of the Federal Aviation Administration. The FAA may approve the request, in whole or in part, no later June 2, 2014.

The following is a brief overview of the request:

The Piedmont Triad International Airport is proposing the release of approximately 16.93 acres of fee simple release, to accommodate the construction of the North Carolina Department of Transportation's Interstate 73 Connector Project (TIP Project NO. I-5110).

Any person may inspect, by appointment, the request in person at the FAA office listed above under FOR FURTHER INFORMATION CONTACT.

In addition, any person may, upon appointment and request, inspect the request, notice and other documents germane to the request in person at the Piedmont Triad International Airport address above.

Issued in Memphis, TN on April 23, 2014.
Tommy L. Dupree,
Acting Manager, Memphis Airports District Office, Southern Region.

[FR Doc. 2014-10101 Filed 5-1-14; 8:45 am]

BILLING CODE P